DEPARTMENT OF COMMERCE

National Oceanic and Atmospheric Administration

50 CFR Part 660

[Docket No. 031230329-3329-01; I.D. 120903B]

RIN 0648-AR82

Fisheries Off West Coast States and in the Western Pacific; Pacific Coast Groundfish Fishery; Advance Notice of Proposed Rulemaking regarding a Trawl Individual Quota Program and to Establish a Control Date

AGENCY: National Marine Fisheries Service (NMFS), National Oceanic and Atmospheric Administration (NOAA), Commerce.

ACTION: Advance notice of proposed rulemaking; notice of control date for the Pacific Coast groundfish fishery; request for comments.

SUMMARY: The Pacific Fishery Management Council (Council) is considering implementing an individual quota (IQ) program for the Pacific Coast groundfish limited entry trawl fishery off Washington, Oregon and California. The trawl IQ program would change management of harvest in the trawl fishery from a trip limit system with cumulative trip limits for every 2-month period to a quota system where each quota share could be harvested at any time during an open season. The trawl IQ program would increase fishermen's flexibility in making decisions on when and how much quota to fish. This document announces a control date of November 6, 2003, for the trawl IQ program. The control date for the trawl IQ program is intended to discourage increased fishing effort in the limited entry trawl fishery based on economic speculation while the Pacific Council develops and considers a trawl IQ program.

DATES: Comments may be submitted in writing by February 9, 2004.

ADDRESSES: Comments may be mailed to Don Hansen, Chairman, Pacific Fishery Management Council, 7700 NE Ambassador Place, Suite 200, Portland, OR 97220-1384.

FOR FURTHER INFORMATION CONTACT: The Pacific Fishery Management Council at 866-806-7204; or Bill Robinson at 206-526-6140; or Svein Fougner at 562-980-4000.

SUPPLEMENTARY INFORMATION: The Pacific Fishery Management Council (Pacific Council) established under section 302(a)(1)(F) of the Magnuson-Stevens Fishery Conservation and Management Act (16 U.S.C. 1852(a)(1)(F)) is considering implementing an individual quota (IQ) program for the Pacific Coast groundfish limited entry trawl fishery off Washington, Oregon and California. The Pacific Coast groundfish limited entry trawl fishery is managed under the Pacific Coast Groundfish Fishery Management Plan (FMP) approved on January 4, 1982 (47 FR 43964, October 5, 1982), as amended 15 times. Implementing regulations for the FMP and its amendments are codified at 50 CFR part 660, subpart G. Additional implementing regulations can be found in the specifications and management measures for the Pacific Coast groundfish fishery published in the Federal Register, as amended through inseason actions. If the Pacific Council recommends and NMFS adopts a trawl IQ program, the program would be implemented through a proposed and final rulemaking, and possibly an FMP amendment.

The trawl IQ program would change management of harvest in the trawl fishery from a trip limit system with cumulative trip limits per vessel for every 2 month period to a quota system where each quota share could be harvested at any time during an open season. The trawl IQ program would increase fishermen's flexibility in making decisions on when and how much quota to fish.

With the lapse of the moratorium on new individual fishing quotas (IFQs) in October 2002, the Regional Fishery Management Councils may propose new IFQs and the Secretary of Commerce will review them for consistency with the Magnuson-Stevens Fishery Conservation and Management Act (Magnuson-Stevens Act), in particular section 303(d).

In advance of a rulemaking on the trawl IQ program, this document announces a control date of November 6, 2003, for the trawl IQ program. The control date for the trawl IQ program is intended to discourage increased fishing effort in the limited entry trawl fishery based on economic speculation while the Pacific Council develops and considers a trawl IQ program. This control date will apply to any person potentially eligible for IQ shares. Persons potentially eligible for IQ shares may include vessel owners, permit owners, vessel operators, and crew. The control date announces to the public that the Pacific Council may decide not to count activities occurring after the control date toward determining a person's qualification for an initial allocation or determining the amount of initial allocation of quota shares. Groundfish landed from limited entry trawl vessels after November 6, 2003, may not be included in the catch history used to qualify for initial allocation in the trawl IQ program.

Implementation of any management measures for the fishery will require amendment of the regulations implementing the FMP and may also require amendment of the FMP itself. Any action will require Council development of a regulatory proposal with public input and a supporting analysis, NMFS approval, and publication of implementing regulations in the Federal Register. The Pacific Council has established an ad-hoc Groundfish Trawl Individual Quota Committee to make recommendations on the development of IQs in the groundfish fisheries. Meetings of this committee are open to the public. Interested parties are urged to contact the Pacific Council office to stay informed of the development of the planned regulations. Fishers are not guaranteed future participation in the groundfish fishery, regardless of their date of entry or level of participation in the fishery.

This advance notice of proposed rulemaking has been determined to be not significant for purposes of Executive Order 12866.

Authority: 16 U.S.C. 1801 et seq.

Dated: January 6, 2004.
Rebecca Lent,
Deputy Assistant Administrator for Regulatory Programs, National Marine Fisheries Service.

[FR Doc. 04-464 Filed 1-8-04; 8:45 am]

BILLING CODE 3510-22-S